FEDERAL EMERGENCY MANAGEMENT AGENCY

44 CFR Part 67

Final Flood Elevation Determinations

AGENCY: Federal Emergency Management Agency (FEMA).

ACTION: Final rule.

SUMMARY: Base (1% annual chance) flood elevations and modified base flood elevations are made final for the communities listed below. The base flood elevations and modified base flood elevations are the basis for the floodplain management measures that each community is required either to adopt or to show evidence of being already in effect in order to qualify or remain qualified for participation in the National Flood Insurance Program (NFIP).

EFFECTIVE DATES: The date of issuance of the Flood Insurance Rate Map (FIRM) showing base flood elevations and modified base flood elevations for each community. This date may be obtained by contacting the office where the maps are available for inspection as indicated on the table below.

ADDRESSES: The final base flood elevations for each community are available for inspection at the office of the Chief Executive Officer of each community. The respective addresses are listed in the table below.

FOR FURTHER INFORMATION CONTACT: Matthew B. Miller, P.E., Chief, Hazards Study Branch, Federal Insurance and Mitigation Administration, Federal Emergency Management Agency, 500 C Street SW., Washington, DC 20472, (202) 646-3461, or (e-mail) matt.miller@fema.gov.

SUPPLEMENTARY INFORMATION: The Federal Emergency Management Agency (FEMA or Agency) makes final determinations listed below of base flood elevations and modified base flood elevations for each community listed. The proposed base flood elevations and proposed modified base flood elevations were published in newspapers of local circulation and an opportunity for the community or individuals to appeal the proposed determinations to or through the community was provided for a period of 90 days. The proposed base flood elevations and proposed modified base flood elevations were also published in the Federal Register.

This final rule is issued in accordance with section 110 of the Flood Disaster Protection Act of 1973, 42 U.S.C. 4104, and 44 CFR part 67.

The Agency has developed criteria for floodplain management in floodprone areas in accordance with 44 CFR part 60.

Interested lessees and owners of real property are encouraged to review the proof Flood Insurance Study and Flood Insurance Rate Map available at the address cited below for each community.

The base flood elevations and modified base flood elevations are made final in the communities listed below. Elevations at selected locations in each community are shown.

National Environmental Policy Act. This rule is categorically excluded from the requirements of 44 CFR part 10, Environmental Consideration. No environmental impact assessment has been prepared.

Regulatory Flexibility Act. The Administrator, Federal Insurance and Mitigation Administration, certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification. This final rule is not a significant regulatory action under the criteria of section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of section 2(b)(2) of Executive Order 12778.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of Flooding and Location | #Depth in feet above ground. *Elevation in feet (NGVD) •Elevation in feet (NAVD)
FLORIDA
Jupiter Island (Town), Martin County (FEMA Docket No. D-7514)
Atlantic Ocean:
Approximately 0.94 mile east of intersection of Suddard Drive and Williams Drive | *13
Approximately 1.32 miles north-northwest of intersection of Beach Road and Harmony Avenue | *6
Maps available for inspection at the Jupiter Town Hall, Building Department, 103 Bunker Hill Road, Hobe Sound, Florida.
KENTUCKY
Harlan (City), Harlan County (FEMA Docket No. D-7538)
Clover Fork:
Approximately 260 feet downstream of the confluence of Martins Fork | *1,180
Approximately 375 feet upstream of Main Street/State Route 72 | *1,181
Martins Fork:
At the confluence with Clover Fork | *1,180
Approximately 1,200 feet upstream of State Route 72 | *1,186
Interior Drainage Area No. 1:
At the intersection of Walnut Street and Cumberland Avenue | *1,176
Interior Drainage Area No. 2:
Approximately 150 feet southeast of the intersection of Clover and Walnut Streets along Walnut Street | *1,174
Maps available for inspection at the Harlan City Hall, 218 South Main Street, Harlan, Kentucky.
MAINE
Allagash (Town), Aroostook County (FEMA Docket No. D-7528)
St. John River:
Approximately 3.68 miles downstream of State Route 161 | *603
Approximately 550 feet upstream of confluence of Little Black River | *627
Little Black River:
At the confluence with St. John River | *626
Approximately 125 feet upstream of Route 161 | *626
Maps available for inspection at the Allagash Town Office, Route 161, Allagash, Maine.

(Catalog of Federal Domestic Assistance No. 83.100, “Flood Insurance.”)
Dated: October 30, 2002.
Anthony S. Lowe,
Administrator, Federal Insurance and Mitigation Administration.

[FR Doc. 02-27964 Filed 11-1-02; 8:45 am]

BILLING CODE 6718-04-P